NATIONAL SCIENCE FOUNDATION

Notice of Permit Applications Received Under the Antarctic Conservation Act of 1978 (Pub. L. 95-541)

AGENCY: National Science Foundation.

ACTION: Notice of Permit Applications Received Under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by June 15, 2012. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Polly A. Penhale at the above address or (703) 292-7420.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

The applications received are as follows:

Permit Application: 2013-004

1. Applicant: Paul J. Ponganis, Center for Marine Biotechnology and Biomedicine, Scripps Institution of Oceanography, 9500 Gilman Drive, Mail Code 0204, University of California, San Diego, La Jolla, CA 92093-0204.

Activity for Which Permit Is Requested

Enter Antarctic Specially Protected Areas (ASPA's). The applicant plans to conduct aerial census surveys of the Emperor penguin colonies at Cape Crozier (ASPA #124), Beaufort Island (ASPA #105), Cape Colbeck, Franklin Island, Cape Washington, and Cape Roget. The purpose of the census surveys is to evaluate the status of the Ross Sea population because a) annual chick counts at Coulman Island, the largest emperor colony in the world, have declined by 50% in 2010 and 2011, b) the Beaufort Island colony produced no chicks in 2011 probably due to the lack of sea ice, and c) the Cape Colbeck colony in 2011 appears to have doubled in size in 2011 (>20,000 adults). These changes raise questions as to a possible decline in the Ross Sea population and/or a shift in the distribution of breeding adults to Cape Colbeck. Such changes are potentially secondary to dates of sea ice formation, stability of sea ice, and/or availability of prey.

Location

Cape Crozier (ASPA #124), Beaufort Island (ASPA #105), Cape Colbeck, Franklin Island, Cape Washington, and Cape Roget.

Dates

October 1, 2012 to December 30, 2012.

Nadene G. Kennedy,
Permit Officer, Office of Polar Programs.

[FR Doc. 2012-11840 Filed 5-15-12; 8:45 am]

BILLING CODE 7555-01-P